Proclamation 9559 of December 28, 2016

Establishment of the Gold Butte National Monument

By the President of the United States of America

A Proclamation

In southeast Nevada lies a landscape of contrast and transition, where dramatically chiseled red sandstone, twisting canyons, and tree-clad mountains punctuate flat stretches of the Mojave Desert. This remote and rugged desert landscape is known as Gold Butte.

The Gold Butte area contains an extraordinary variety of diverse and irreplaceable scientific, historic, and prehistoric resources, including vital plant and wildlife habitat, significant geological formations, rare fossils, important sites from the history of Native Americans, and remnants of our Western mining and ranching heritage. The landscape reveals a story of thousands of years of human interaction with this harsh environment and provides a rare glimpse into the lives of Nevada's first inhabitants, the rich and varied indigenous cultures that followed, and the eventual arrival of Euro-American settlers. Canyons and intricate rock formations are a stunning backdrop to the area's famously beautiful rock art, and the desert provides critical habitat for the threatened Mojave desert tortoise.

Gold Butte's dynamic environment has provided food and shelter to humans for at least 12,000 years. Remnants of massive agave roasting pits, charred remains of goosefoot and pinyon pine nuts, bone fragments, and projectile points used to hunt big horn sheep and smaller game serve as evidence of the remarkable abilities of indigenous communities to eke out sustenance from this unforgiving landscape. Visitors to Gold Butte can still see ancient rock shelters and hearth remnants concealed in the area's dramatic Aztec Sandstone formations. This brightly hued sandstone is the canvas for the area's spectacular array of rock art, depicting human figures, animals, and swirling abstract designs at locations like the famed Falling Man petroglyph site and Kohta Circus. Pottery sherds and other archaeological artifacts scattered throughout the landscape reveal the area's role as a corridor for the interregional trade of pottery, salt, and rare minerals. These world-renowned archaeological sites and objects are helping scientists to better understand interactions between ancient cultural groups.

By the time Spanish explorers arrived in the region in the late eighteenth century, the Gold Butte area was home to the Southern Paiute people, who to this day, retain a spiritual and cultural connection with the land and use it for traditional purposes such as ceremonies and plant harvesting. Hunters and settlers of European descent followed the explorers, and, by 1865, Mormon pioneers had built settlements in the region.

These newcomers grazed livestock and explored Gold Butte's unique geology in pursuit of mining riches. Their activities left behind historic sites and objects that tell the story of the American West, including the Gold Butte townsite, a mining boomtown established in the early 1900s, but mostly abandoned by 1910. Several building foundations and arrastas—large flat rocks used for crushing ore—remain at the townsite today. Settlers built corrals out of wood or stone, some of which are still standing in the Gold Butte area, including one near the Gold Butte townsite and one at Horse Springs, along the Gold Butte Scenic Byway. In the 1930s, the Civilian Conservation Corps was put to work in the area, leaving behind a variety of historic features including a dam and remnants of a camp in the Whitney Pockets area, in the northeastern region of Gold Butte.

The Gold Butte landscape that visitors experience today is the product of millions of years of heat and pressure as well as the eroding forces of water and wind that molded this vast and surreal desert terrain. Rising up from the Virgin River to an elevation of almost 8,000 feet, the Virgin Mountains delineate the area's northeast corner and provide a stunning backdrop for the rugged gray and red desert of the lower elevations. Faulted carbonate and silicate rock form the ridges and peaks of this range, which are regularly snow-covered in winter and spring, while the southern region of Gold Butte is laced with a series of wide granitic ridges and narrow canyons. These broad landscape features are dotted with fantastical geologic formations, including vividly hued Aztec Sandstone twisted into otherworldly shapes by wind and water, as well as pale, desolate granitic domes. An actively-expanding 1,200 square-meter sinkhole known as the Devil's Throat has been the subject of multiple scientific studies that have enhanced our understanding of sinkhole formation.

The Gold Butte landscape is a mosaic of braided and shallow washes that flow into the Virgin River to the north and directly into Lake Mead on the south and west. Several natural springs provide important water sources for the plants and animals living here. The arid eastern Mojave Desert landscape that dominates the area is characterized by the creosote bush and white bursage vegetative community that covers large, open expanses scattered with low shrubs. Blackbrush scrub, a slow-growing species that can live up to 400 years, is abundant in middle elevations. Both creosote-bursage and blackbrush scrub vegetation communities can take decades or even centuries to recover from disturbances due to the long-lived nature of the plant species in these vegetative communities and the area's low rainfall. These vegetation communities are impacted by human uses, invasive species, wildfires, and changing climates. Gypsum deposits are a distinctive aspect of the Mojave Desert ecosystem and result in soil that contains physical and chemical properties that stress many plants, but also support endemic and rare species. For example, the sticky ringstem, Las Vegas buckwheat, and Las Vegas bearpoppy are unique plants that rely on gypsum soil; the populations in Gold Butte are some of only a handful of isolated populations of these species left in the world. Other rare plants in Gold Butte include the threecorner milkvetch and sticky wild buckwheat, which are sand-dependent species, as well as the Rosy two-tone beardtongue and the Mokiak milkvetch. Scattered stands of Joshua trees, an emblem of the Mojave Desert, dot the landscape along with Mojave yucca, cacti species, and chaparral species, among others.

The often snowcapped peaks of the Virgin Mountains in the northeastern corner of Gold Butte stand in stark contrast to the desolate desert landscapes found elsewhere in the area. Due to their elevation of almost 8,000 feet, these mountains exhibit a transition between ecosystems in the southwest. At the highest points of the Virgin Mountains, visitors can hike through Ponderosa pine and white fir forests, and visit the southernmost stand of Douglas fir in Nevada. In this area, visitors are also treated to a rare sight: the Silver State's only stand of the Arizona cypress. The lower to middle elevations of the area are home to stands of pinyon pine, Utah juniper, sagebrush, and acacia woodlands, along with occasional mesquite stands. By adding structural complexity to a shrub-dominated landscape, these woodlands provide important breeding, foraging, and resting places for a variety of creatures, including birds and insects, and support a number of plant species.

Gold Butte also provides habitat for a number of wildlife species. It has been designated as critical habitat for the Mojave desert tortoise, which is listed as threatened under the Endangered Species Act. These slow-footed symbols of the American Southwest rely on the creosote-bursage ecosystem that is widespread here. A generally reclusive reptile, the Mojave desert tortoise uses the protective cover of underground burrows to escape extreme desert conditions and as shelter from predators.

Other amphibians and reptiles also make their homes in Gold Butte. For example, once considered extinct and now a candidate species for listing under the Endangered Species Act, the relict leopard frog has been released into spring sites in the area in a collaborative effort by local, State, and Federal entities to help revive this still very small population. The banded Gila monster, the only venomous lizard in the United States, has also been recorded in Gold Butte. Many other reptile species—including the banded gecko, California kingsnake, desert iguana, desert night lizard, glossy snake, Great Basin collared lizard, Mojave green rattlesnake, sidewinder, Sonoran lyre snake, southern desert horned lizard, speckled rattlesnake, western leaf-nosed snake, western long-nosed snake, and western red-tailed skink—also have populations or potential habitats in the area.

The Gold Butte area serves as an effective corridor between Lake Mead and the Virgin Mountains for large mammals, including desert bighorn sheep and mountain lions. Smaller mammals in Gold Butte include white-tailed antelope squirrel, desert kangaroo rat, and the desert pocket mouse. Several species of bat, including the Pallid bat, Allen's big-eared bat, western pipistrelle bat, and the Brazilian free-tailed bat, are also found here, as well as the northern Mojave blue butterfly.

Bald and golden eagles, red-tailed and Cooper's hawks, peregrine falcons, and white-throated swifts soar above Gold Butte. Closer to the ground, one can spot a variety of birds, including the western burrowing owl, common poorwill, Costa's hummingbird, pinyon jay, Bendire's thrasher, Virginia's warbler, Lucy's warbler, black-chinned sparrow, and gray vireo. Migratory birds, including the Calliope hummingbird, gray flycatcher, sage sparrow, lesser nighthawk, ash-throated flycatcher, and the Brewer's sparrow, also make stop-overs in the area. These birds, and a variety of other avian species, use the diversity of habitats in the area to meet many of their seasonal, migratory, or year-round life cycle needs.

In addition to providing homes to modern species of plants and wildlife, the area shows great potential for continued paleontological research, with resources such as recently discovered dinosaur tracks dating back to the Jurassic Period. These fossil trackways were found in Gold Butte's distinctive Aztec Sandstone and also include prints from squirrel-sized reptilian ancestors of mammals.

The protection of the Gold Butte area will preserve its cultural, prehistoric, and historic legacy and maintain its diverse array of natural and scientific resources, ensuring that the historic and scientific values of this area, and its many objects of historic and of scientific interest, remain for the benefit of all Americans.

WHEREAS, section 320301 of title 54, United States Code (known as the “Antiquities Act”), authorizes the President, in his discretion, to declare by public proclamation historic landmarks, historic and prehistoric structures, and other objects of historic or scientific interest that are situated upon the lands owned or controlled by the Federal Government to be national monuments, and to reserve as a part thereof parcels of land, the limits of which in all cases shall be confined to the smallest area compatible with the proper care and management of the objects to be protected;

WHEREAS, it is in the public interest to preserve the objects of scientific and historic interest on the Gold Butte lands;

NOW, THEREFORE, I, BARACK OBAMA, President of the United States of America, by the authority vested in me by section 320301 of title 54, United States Code, hereby proclaim the objects identified above that are situated upon lands and interests in lands owned or controlled by the Federal Government to be the Gold Butte National Monument (monument) and, for the purpose of protecting those objects, reserve as part thereof all lands and interests in lands owned or controlled by the Federal Government within the boundaries described on the accompanying map, which is attached to and forms a part of this proclamation. These reserved Federal lands and interests in lands encompass approximately 296,937 acres. The boundaries described on the accompanying map are confined to the smallest area compatible with the proper care and management of the objects to be protected.

All Federal lands and interests in lands within the boundaries of the monument are hereby appropriated and withdrawn from all forms of entry, location, selection, sale, or other disposition under the public land laws, from location, entry, and patent under the mining laws, and from disposition under all laws relating to mineral and geothermal leasing.

The establishment of the monument is subject to valid existing rights, including valid existing water rights. If the Federal Government subsequently acquires any lands or interests in lands not owned or controlled by the Federal Government within the boundaries described on the accompanying map, such lands and interests in lands shall be reserved as a part of the monument, and objects identified above that are situated upon those lands and interests in lands shall be part of the monument, upon acquisition of ownership or control by the Federal Government.

The Secretary of the Interior (Secretary) shall manage the monument pursuant to applicable legal authorities, which may include the provisions of section 603 of the Federal Land Policy and Management Act (43 U.S.C. 1782) governing the management of wilderness study areas, to protect the objects identified above. Of the approximately 296,937 acres of Federal lands and interests in lands reserved by this proclamation, approximately 285,158 acres are currently managed by the Secretary through the Bureau of Land Management (BLM) and approximately 11,779 are currently managed by the Secretary through the Bureau of Reclamation (BOR). After issuance of this proclamation, the Secretary shall, consistent with applicable legal authorities, transfer administrative jurisdiction of the BOR lands within the boundaries of the monument to the BLM. The Secretary, through the BLM, shall manage lands within the monument that are subject to the administrative jurisdiction of the BLM as a unit of the National Landscape Conservation System.

For purposes of protecting and restoring the objects identified above, the Secretary, through the BLM, shall prepare and maintain a management plan for the monument and shall provide for maximum public involvement in the development of that plan including, but not limited to, consultation with State, tribal, and local governments.

The Secretary shall establish an advisory committee under the Federal Advisory Committee Act, 5 U.S.C. App., to provide information and advice regarding development of the land use plan and management of the monument.

Except for emergency or authorized administrative purposes, motorized vehicle use in the monument shall be permitted only on roads designated as open to such use as of the date of this proclamation, unless the Secretary decides to reroute roads for public safety purposes or to enhance protection of the objects identified above. Non-motorized mechanized vehicle use shall be permitted only on roads and trails, consistent with the care and management of the objects identified above.

Consistent with the care and management of the objects identified above, nothing in this proclamation shall be construed to preclude the renewal or assignment of, or interfere with the operation, maintenance, replacement, modification, or upgrade within the physical authorization boundary of existing flood control, pipeline, and telecommunications facilities, or other water infrastructure, including wildlife water catchments or water district facilities, that are located within the monument. Except as necessary for the care and management of the objects identified above, no new rights-of-way shall be authorized within the monument.

Nothing in this proclamation shall be deemed to enlarge or diminish the rights or jurisdiction of any Indian tribe. The Secretary shall, to the maximum extent permitted by law and in consultation with Indian tribes, ensure the protection of Indian sacred sites and traditional cultural properties in the monument and provide for access by members of Indian tribes for traditional cultural and customary uses, consistent with the American Indian Religious Freedom Act (42 U.S.C. 1996) and Executive Order 13007 of May 24, 1996 (Indian Sacred Sites).

Livestock grazing has not been permitted in the monument area since 1998 and the Secretary shall not issue any new grazing permits or leases on lands within the monument.

Nothing in this proclamation shall be deemed to enlarge or diminish the jurisdiction of the State of Nevada, including its jurisdiction and authority with respect to fish and wildlife management, including hunting and fishing.

Nothing in this proclamation shall be construed to preclude the traditional tribal collection of seeds, natural materials, salt, or materials for stone tools in the monument for personal noncommercial use consistent with the care and management of the objects identified above.

Nothing in this proclamation shall preclude low-level overflights of military aircraft, the designation of new units of special use airspace, or the use or establishment of military flight training routes over the lands reserved by this proclamation consistent with the care and management of the objects identified above. Nothing in this proclamation shall preclude air or ground access to existing or new electronic tracking communications sites associated with the special use airspace and military training routes, consistent with the care and management of such objects.

Nothing in this proclamation shall be deemed to revoke any existing withdrawal, reservation, or appropriation; however, the monument shall be the dominant reservation.

Warning is hereby given to all unauthorized persons not to appropriate, injure, destroy, or remove any feature of the monument and not to locate or settle upon any of the lands thereof.

IN WITNESS WHEREOF, I have hereunto set my hand this twenty-eighth day of December, in the year of our Lord two thousand sixteen, and of the Independence of the United States of America the two hundred and forty-first.

Billing code 3295-F7-P

[FR Doc. 2017-00039

Filed 1-4-17; 8:45 am]

Billing code 4310-10-C